DEPARTMENT OF THE INTERIOR

Bureau of Land Management

[PO #4820000251; Order #02412-014-004-047181.0]

Draft Environmental Impact Statement (EIS), Public Hearing, and Request for Comment on the Draft EIS, Maximum Economic Recovery, and Fair Market Value for the Warrior Met Coal Mines EIS Proposed Federal Coal Lease-by-Application for Mine No. 4 (ALES-055797) and Blue Creek Mine No. 1 (ALES-056519), Tuscaloosa County, Alabama

AGENCY: Bureau of Land Management, Interior.

ACTION: Notice of availability and public hearing.

SUMMARY: In compliance with the National Environmental Policy Act of 1969, as amended (NEPA), and the Federal Land Policy and Management Act of 1976, as amended (FLPMA), the Bureau of Land Management (BLM) announces the availability of the draft environmental impact statement (EIS) for the Warrior Met Coal Mines. The BLM is also announcing that a public hearing will be held to receive comments on the Draft EIS, fair market value (FMV), maximum economic recovery (MER), and on factors that may affect the FMV and MER determinations of the coal resources contain in the proposed lease by application (LBA) lease tracts.

DATES: To afford the BLM the opportunity to consider comments in the Draft EIS, please ensure that the BLM receives your comments within 45 days following the date the Environmental Protection Agency (EPA) publishes its notice of availability (NOA) of the Draft EIS in the Federal Register. The EPA usually publishes its NOAs on Fridays.

A public hearing will be held on June 24, 2025, at 6 p.m. central time (CT).

ADDRESSES: The public hearing will be held at the Courtyard Northport, 700 Bridge Avenue, Northport, Alabama 35476. Any updates to the public hearing will be provided through the ePlanning project website and a press release.

The Draft EIS and associated documents are available for review on the BLM project website at https://eplanning.blm.gov/eplanning-ui/project/2031600/510. Written comments related to the Warrior Met Coal Mines EIS may be submitted by any of the following methods:

• Website: https://eplanning.blm.gov/eplanning-ui/project/2031600/510.

• Mail: Bureau of Land Management, Attn: Warrior Met Coal Mines EIS, 273 Market Street, Flowood, MS 39232.

Documents pertinent to this proposal may be examined online at https://eplanning.blm.gov/eplanning-ui/project/2031600/510 or may also be examined at the Southeastern States District Office.

FOR FURTHER INFORMATION CONTACT: Shayne Banks, BLM Southeastern States District Manager, telephone: 601-919-4652; address: 273 Market Street, Flowood, MS 39232; email: sbanks@blm.gov.

Individuals in the United States who are deaf, deafblind, hard of hearing, or have a speech disability may dial 711 (TTY, TDD, or TeleBraille) to access telecommunications relay services for contacting Ms. Banks. Individuals outside the United States should use the relay services offered within their country to make international calls to the point-of-contact in the United States.

SUPPLEMENTARY INFORMATION: The BLM Southeastern States District Office received two Federal LBAs to expand current mining operations located in Tuscaloosa County, Alabama. Warrior Met Coal Mining, LLC, proposes to expand Mine No. 4 (ALES-055797), and Warrior Met Coal BC, LLC, proposes to expand Blue Creek Mine No. 1 (ALES-056519). Warrior Met Coal Mining, LLC, and Warrior Met Coal BC, LLC, are subsidiaries of Warrior Met Coal, Inc., and will henceforth be referred to collectively as “Warrior Met Coal.”

The LBA for the Mine No. 4 expansion (ALES-055797) consists of approximately 5,704.52 acres of private surface lands (i.e., split-estate lands) with an estimated 16.9 million short tons of recoverable Federal coal. The LBA for the Blue Creek Mine No. 1 expansion (ALES-056519) consists of approximately 8,346.015 acres of split-estate lands, Federal mineral and private-owned surface, with an estimated 36.3 million short tons of recoverable Federal coal. The combined proposed lease area for both applications includes approximately 14,050 acres of split-estate lands. Warrior Met Coal is seeking to obtain leases for the extraction of metallurgical coal resources by means of underground longwall mining techniques.

The BLM initially began preparing an environmental assessment to evaluate the LBA for Mine No. 4. Upon further review of the potential effects of the proposed action for Mine No. 4 expansion and, given the proximity to the Blue Creek Mine No. 1 expansion LBA, the BLM determined that an EIS is warranted, and that both LBAs would be evaluated under a single EIS.

The tracts for the proposed Mine No. 4 (ALES-055797) lease, underlie private surface in Tuscaloosa County, Alabama, and the quarter/quarter descriptions are as follows:

Huntsville Meridian, Alabama

T. 18 S., R. 8 W.,

Sec. 17, NE¼, SE¼, SW¼, E½NW¼, and SW¼NW¼;

Sec. 18, SE¼, E½SW¼, and SW¼SW¼;

Sec. 28, W½SW¼ and SE¼NW¼;

Sec. 33, SW¼NW¼.

T. 19 S., R. 8 W.,

Sec. 4, SE¼NW¼;

Sec. 11, E½NW¼;

Sec. 18, SW¼ and W½NW¼.

T. 18 S., R. 9 W.,

Sec. 21, NE¼SE¼;

Sec. 22, SW¼NE¼, S½SE¼, NW¼SE¼, SW¼, and SE¼NW¼;

Sec. 24, NE¼, E½SE¼, NW¼SE¼, SW¼, E½NW¼, and SW¼NW¼;

Sec. 26, NE¼, SE¼, SW¼, and E½NW¼;

Sec. 27, W½NE¼, SE¼, SW¼, and NW¼;

Sec. 28, N½SE¼;

Sec. 33, E½NE¼ and NE¼SE¼;

Sec. 34, NE¼, SE¼, N½SW¼, and NW¼;

Sec. 35, N½NE¼, SE¼NE¼, E½SE¼, SW¼SE¼, W½SW¼, N½NW¼ and SW¼NW¼.

T. 19 S., R. 9 W.,

Sec. 1, NE¼ and E½NW¼;

Sec. 12, NE¼, SE¼, E½SW¼, and E½NW¼;

Sec. 14, SE¼ and NW¼

Containing approximately 5,704.52 acres.

The tracts for the proposed Blue Creek Mine No. 1 (ALES-056519) lease, underlie private surface in Tuscaloosa County, Alabama, and the quarter/quarter descriptions are as follows:

Huntsville Meridian, Alabama

T. 17 S., R. 8 W.,

Sec. 5, N½SW¼;

Sec. 6, S½NE¼, N½SE¼, and SE¼SE¼;

Sec. 7, NE¼NE¼, and W½NW¼;

Sec. 8, NE¼NE¼, and SW¼NE¼.

T. 17 S., R. 9 W.,

Sec. 2, W½NW¼, and NW¼SW¼;

Sec. 3, W½SW¼, and SW¼SE¼;

Sec. 4, E½NE¼, SW¼NE¼, and S½SW¼;

Sec. 5, SW¼SW¼, and E½SE¼;

Sec. 6, SE¼NE¼, and E½SE¼;

Sec. 7, NE¼NE¼, E½SW¼, and SE¼SE¼;

Sec. 8, SE¼NE¼, S½SW¼, E½SE¼, and SW¼SE¼;

Sec. 9, NE¼, SW¼, and SE¼;

Sec. 10, NE¼, W½NW¼, SE¼NW¼, SW¼, and NW¼SE¼;

Sec. 11, W½NW¼, and SE¼SE¼;

Sec. 13, N½NE¼, SW¼NE¼, and N½SW¼;

Sec. 14, E½NE¼, E½NW¼, E½SE¼, and NW¼SE¼;

Sec. 15, W½NE¼, NW¼, NW¼SW¼, and NW¼SE¼;

Sec. 17, NE¼, NW¼, NE¼SW¼, and SE¼;

Sec. 18, E½NE¼, NW¼NE¼, E½NW¼, and W½SW¼;

Sec. 20, NW¼NE¼, and SW¼NW¼;

Sec. 22, NE¼NW¼, and E½SE¼;

Sec. 23, S½NE¼, and NE¼SE¼;

Sec. 24, SW¼NW¼, and E½SE¼;

Sec. 25, NE¼NE¼, E½SW¼, and NE¼SE¼;

Sec. 26, NW¼NW¼;

Sec. 27, NE¼NE¼, and NW¼SW¼;

Sec. 30, E½SE¼;

Sec. 31, E½NE¼, SW¼NE¼, and SE¼/NW¼;

Sec. 32, NW¼NW¼, and W½SW¼;

Sec. 35, NE¼;

Sec. 36, NE¼, NW¼, E½SW¼, and SE¼.

T. 17 S., R. 10 W.,

Sec. 1, NW¼SE¼;

Sec. 12, SE¼SE¼;

Sec. 13, NE¼NE¼;

Sec. 35, E½SW¼;

Sec. 36, SE¼NE¼, and N½SW¼.

T. 18 S., R. 8 W.,

Sec. 5, N½NE¼, N½NW¼, and NW¼SW¼;

Sec. 6, W½NE¼, NW¼, SW¼, and W½SE¼;

Sec. 7, NE¼NE¼.

T. 18 S., R. 9 W.,

Sec. 1, E½NE¼, and NW¼NE¼;

Sec. 6, SW¼NE¼, E½NW¼, SW¼NW¼, and W½SW¼;

Sec. 7, S½NE¼, and N½NW¼;

Sec. 17, W½SW¼;

Sec. 18, SE¼NW¼, and N½SE¼.

T. 18 S., R. 10 W.,

Sec. 1, NE¼NW¼, SE¼SW¼, N½SE¼, and SW¼SE¼;

Sec. 11, E½NE¼;

Sec. 12, NW¼NE¼, and SE¼SW¼;

Sec. 13, NE¼SW¼, W½SE¼, and SE¼SE¼.

Containing approximately 8,346.015 acres.

Purpose and Need for the Proposed Action

The purpose of the project is to provide for responsible development of coal resources in the Warrior Basin by responding to two Federal coal LBAs submitted by Warrior Met Coal to access a total of approximately 14,050 acres of Federal minerals underlying split-estate lands in Tuscaloosa County, Alabama. The applications propose to extract approximately 53.2 million tons of recoverable Federal metallurgical coal reserves.

The need is established by the BLM's responsibility under the Mineral Leasing Act of 1920, as amended; the Mineral Leasing Act for Acquired Lands of 1947, as amended; and the Federal Coal Leasing Amendments Act of 1976, as amended, to respond to two Federal coal LBAs submitted by Warrior Met Coal (ALES-055797 and ALES-056519), which seek to expand two existing underground mines.

Proposed Action and Alternatives

The proposed action is to offer for competitive lease sale approximately 5,704.52 acres of Federal minerals for Mine No. 4 (ALES-055797) and 8,346.015 acres of Federal minerals for Blue Creek Mine No. 1 (ALES-056519) with the intent of allowing for the proposed extraction of a combined 53.2 million tons of metallurgical coal reserves by means of underground longwall mining techniques. The surface of the lands identified in both LBAs are privately owned. Implementation of the proposed action would result in the BLM holding two competitive lease sales, one for each LBA.

The BLM also evaluated the no action alternative under which the BLM would deny the two LBAs and the land would not be offered for lease.

Resources Evaluated

The Draft EIS analyzes environmental impacts of several key resources, including air quality, geology and minerals (including subsidence), socioeconomics, water resources, and wildlife resources. The analysis evaluates the potential impacts of the proposed action and the no action alternative on these resources. Additional resources were considered, and rationales are provided in the scoping report included in the Draft EIS.

Public Involvement Process

The notice of intent to prepare an EIS was published in the Federal Register on April 30, 2024. A letter was also provided to the private landowners within the project area to notify them of the ongoing project, the letter was mailed on May 31, 2024. All comments received either from the ePlanning site or provided by mail or email have been considered for the development of the Draft EIS.

A public hearing will be held on June 24, 2025, at 6 p.m. CT. The meeting location will be at the Courtyard Northport, 700 Bridge Avenue, Northport, Alabama 35476.

Any updates to the public hearing will be provided through a press release and will be posted to the ePlanning project website: https://eplanning.blm.gov/eplanning-ui/project/2031600/510.

Cooperating Agencies

The Office of Surface Mining and Reclamation and Enforcement and the Alabama Surface Mining Commission are cooperating agencies. The BLM is the lead agency for this project.

Additional Information

The BLM will continue to consult with Indian Tribal Nations on a government-to-government basis in accordance with Executive Order 13175, BLM Manual Section 1780 and other Departmental policies. Tribal concerns, including impacts on Indian trust assets and potential impacts to cultural resources, will be given due consideration. Federal, State, and local agencies, along with Indian Tribal Nations and other stakeholders that may be interested in or affected by the two proposed leases for Federal coal that the BLM is evaluating, are invited to participate in the comment period.

The BLM is seeking input and comments for the Draft EIS, the proposed sale, the fair market value, and maximum economic recovery on the proposed lease tracts, to ensure that a comprehensive review of the proposed action and alternatives is considered. Comments should specifically address the adequacy of the analysis for each resource concern, including but not limited to air quality, geology and minerals, water resources, wildlife resources, and socio-economic impacts. Additionally, feedback on the adequacy of the alternatives considered in the Draft EIS is encouraged, including suggestions for any additional alternatives that may warrant an evaluation.

Any proprietary information or data that you submit to the BLM must be marked as confidential and mailed directly to the Southeastern States District Office, Attention: Shayne Banks (see FOR FURTHER INFORMATION CONTACT section) to assure the data will be treated in accordance with the applicable laws and regulations governing the confidentiality of such information or data. A copy of the comments submitted by the public on the Draft EIS, fair market value, and maximum economic recovery for the tracts, except those portions identified as proprietary and that meet one of the exemptions in the Freedom of Information Act, will be available for public inspection at the Southeastern States District Office (see FOR FURTHER INFORMATION CONTACT section) during regular business hours (8:00 a.m. to 4:30 p.m. CT), Monday through Friday, except on Federal holidays.

Before including your address, phone number, email address, or other personal identifying information in your comment, you should be aware that your entire comment—including your personal identifying information—may be made publicly available at any time. While you can ask us in your comment to withhold your personal identifying information from public review, we cannot guarantee that we will be able to do so.

(Authority: 43 CFR 46.435, 43 CFR 3425.3 and 3425.4)

Leah B. Baker,
Acting Eastern States State Director.

[FR Doc. 2025-10210 Filed 6-5-25; 8:45 am]

BILLING CODE 4331-18-P